DEPARTMENT OF COMMERCE

International Trade Administration

[C-533-864]

Certain Corrosion-Resistant Steel Products From India: Rescission of 2017 Countervailing Duty Administrative Review

AGENCY: Enforcement and Compliance, International Trade Administration, Department of Commerce.

SUMMARY: The Department of Commerce (Commerce) is rescinding the administrative review of the countervailing order on certain corrosion-resistant steel from India for the period of review (POR), January 1, 2017, through December 31, 2017, based on the timely withdrawal of the request for review.

DATES: Applicable December 13, 2018.

FOR FURTHER INFORMATION CONTACT: Omar Qureshi, AD/CVD Operations, Office V, Enforcement and Compliance, International Trade Administration, U.S. Department of Commerce, 1401 Constitution Avenue NW, Washington, DC 20230; telephone (202) 482-5307

SUPPLEMENTARY INFORMATION:

Background

On July 3, 2018, Commerce published in the Federal Register a notice of opportunity to request an administrative review of the countervailing duty order on corrosion-resistant steel products from India for the period January 1, 2017, to December 31, 2017 (POR).¹ On July 31, 2018, Uttam Galva Steels Limited (Uttam Galva) filed a timely request for review in accordance with 751(a) of the Tariff Act of 1930, as amended (the Act).² On September 10, 2018, based on this request and in accordance with section 751(a) of the Act, Commerce published in the Federal Register a notice of initiation of an administrative review of the countervailing duty order on certain corrosion-resistant steel products from India, covering the POR.³ On October 26, 2018, Uttam Galva timely withdrew its request for administrative review.⁴

¹ See Antidumping or Countervailing Duty Order, Finding, or Suspended Investigation; Opportunity to Request Administrative Review, 83 FR 31,121 (July 3, 2018).

² See Letter from Uttam Galva Steels Limited: Request for Administrative Review, dated July 31, 2018.

³ See Initiation of Antidumping and Countervailing Duty Administrative Reviews, 83 FR 45596 (September 10, 2018).

⁴ See Letter from Uttam Galva: Withdrawal of Request for Review, dated October 26, 2018.

Rescission of Review

Pursuant to 19 CFR 351.213(d)(1), the Secretary will rescind an administrative review, in whole or in part, if the party that requested the review withdraws its request within 90 days of the date of publication of the notice of initiation of the requested review. Uttam Galva was the only interested party that requested a review of itself. Additionally, Uttam Galva is the only respondent party to this review. As noted above, Uttam Galva withdrew its request for review by the 90-day deadline. As a result, Commerce is rescinding the administrative review of the countervailing duty order on certain corrosion-resistant steel products from India covering the period January 1, 2017, to December 31, 2017.

Assessment

We will instruct U.S. Customs and Border Protection (CBP) to assess countervailing duties on all appropriate entries. Because Commerce is rescinding this administrative review in its entirety, the entries to which this administrative review pertained shall be assessed countervailing duties at rates equal to the cash deposit of estimated antidumping duties required at the time of entry, or withdrawal from warehouse, for consumption, in accordance with 19 CFR 351.212(c)(1)(i). Commerce intends to issue appropriate assessment instructions to CBP 15 days after the publication of this notice in the Federal Register.

Notifications

This notice serves as a final reminder to importers of their responsibility under 19 CFR 351.402(f)(2) to file a certificate regarding the reimbursement of countervailing duties prior to liquidation of the relevant entries during this review period. Failure to comply with this requirement could result in Commerce's presumption that reimbursement of the countervailing duties occurred and the subsequent assessment of doubled antidumping duties.

This notice also serves as a final reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: December 7, 2018.
James Maeder,
Associate Deputy Assistant Secretary for Antidumping and Countervailing Duty Operations performing the duties of Deputy Assistant Secretary for Antidumping and Countervailing Duty Operations.

[FR Doc. 2018-26972 Filed 12-12-18; 8:45 am]

BILLING CODE 3510-DS-P